DEPARTMENT OF AGRICULTURE

[04-01-S]

Grain Inspection, Packers and Stockyards Administration

Designation for the Amarillo (TX), Cairo (IL), Louisiana, North Carolina, Belmond (IA), and Wisconsin Areas

AGENCY: Grain Inspection, Packers and Stockyards Administration, USDA.

ACTION: Notice.

SUMMARY: Grain Inspection, Packers and Stockyards Administration (GIPSA) announces designation of the following organizations to provide official services under the United States Grain Standards Act, as amended (Act): Amarillo Grain Exchange, Inc. (Amarillo); Cairo Grain Inspection Agency, Inc. (Cairo); Enid Grain Inspection Company, Inc. (Enid); Louisiana Department of Agriculture and Forestry (Louisiana); North Carolina Department of Agriculture (North Carolina); D. R. Schaal Agency, Inc. (Schaal); and Wisconsin Department of Agriculture, Trade and Consumer Protection (Wisconsin).

DATES: Effective date: October 1, 2004.

ADDRESSES: USDA, GIPSA, Janet M. Hart, Chief, Review Branch, Compliance Division, STOP 3604, Room 1647-S, 1400 Independence Avenue, SW., Washington, DC 20250-3604.

FOR FURTHER INFORMATION CONTACT: Janet M. Hart at (202) 720-8525, e-mail Janet.M.Hart@usda.gov.

SUPPLEMENTARY INFORMATION: This action has been reviewed and determined not to be a rule or regulation as defined in Executive Order 12866 and Departmental Regulation 1512-1; therefore, the Executive Order and Departmental Regulation do not apply to this action.

In the March 1, 2004 Federal Register (69 FR 9573), GIPSA asked persons interested in providing official services in the geographic areas assigned to the official agencies named above to submit an application for designation. Applications were due by April 1, 2004.

There were two applicants for the Amarillo area. Amarillo applied for designation to provide official services in the area currently assigned to them, except for Beckham, Ellis, Harper, and Roger Mills Counties in Oklahoma. Enid Grain Inspection Company, Inc. (Enid), a currently designated official agency, applied for designation in the part of Amarillo's area that Amarillo did not apply for, Beckham, Ellis, Harper, and Roger Mills Counties in Oklahoma.

There were two applicants for the Louisiana area. Louisiana applied for designation to provide official services in the entire area currently assigned to them. BSI Inspectorate Services, Inc. (BSI), an unofficial inspection company, applied for designation to provide official services in the entire area currently assigned to Louisiana.

GIPSA asked for comments on the applicants for providing service in the Amarillo and Louisiana areas in the June 1, 2004, Federal Register (69 FR 30868). Comments were due by July 1, 2004. There were no comments on the Amarillo area. For the Louisiana area, we received two positive comments supporting Louisiana, one from a Louisiana Manager and one from a customer.

Cairo, North Carolina, Schaal, and Wisconsin were the sole applicants for designation to provide official services in the entire area currently assigned to them, so GIPSA did not ask for additional comments on them.

GIPSA evaluated all available information regarding the designation criteria in section 7(f)(l)(A) of the Act and, according to section 7(f)(l)(B), determined the following. Amarillo, Cairo, North Carolina, Schaal, and Wisconsin are able to provide official services in the geographic areas specified in the March 1, 2004, Federal Register, for which they applied. Enid is able to provide official services in the geographic areas specified in the March 1, 2004, Federal Register, for which they applied, in addition to the area they already serve. Louisiana is better able to provide services in the Louisiana area for which they applied.

These designation actions to provide official inspection services are effective October 1, 2004, and terminate September 30, 2007 for Amarillo, Cairo, Louisiana, North Carolina, and Schaal. For Enid, the designation term runs concurrently with their present designation, in the geographic area specified above, in addition to any areas they are already designated to serve, and terminates March 31, 2007. Wisconsin is designated for one year only, terminating September 30, 2005, to allow GIPSA time to evaluate Wisconsin's programs. Interested persons may obtain official services by calling the telephone numbers listed below.

Official agency | Headquarters location and telephone | Designation start-end
Amarillo | Amarillo, TX, 806-372-8511 | 10/01/2004-9/30/2007
| Additional location: Guymon, OK
Cairo | Cairo, IL, 618-734-0689 | 10/01/2004-9/30/2007
Enid | Enid, OK, 580-233-1121 | 4/01/2004-3/31/2007
| Additional location: Catoosa, OK
Louisiana | Baton Rouge, LA, 337-948-0230 | 10/01/2004-9/30/2007
| Additional locations: Jonesville, Oak Grove, Opelousas, Pineville, LA
North Carolina | Raleigh, NC, 919-733-4491 | 10/01/2004-9/30/2007
| Additional location: Fayetteville, NC
Schaal | Belmond, IA, 641-444-3122 | 10/01/2004-9/30/2007
Wisconsin | Madison, WI, 608-224-4922 | 10/01/2004-9/30/2005
| Additional locations: Milwaukee, Superior, WI

Authority: Pub. L. 94-582, 90 Stat. 2867, as amended (7 U.S.C. 71 et seq.).

David R. Shipman,
Acting Administrator, Grain Inspection, Packers and Stockyards Administration.

[FR Doc. 04-19932 Filed 8-31-04; 8:45 am]

BILLING CODE 3410-EN-P